DEPARTMENT OF COMMERCE

National Oceanic and Atmospheric Administration

50 CFR Part 223

[Docket No.: 240508-0132]

RIN 0648-BM49

Endangered and Threatened Wildlife and Plants; Protective Regulations for the Oceanic Whitetip Shark (Carcharhinus longimanus), Public Hearings

AGENCY: National Marine Fisheries Service (NMFS), National Oceanic and Atmospheric Administration (NOAA), Department of Commerce.

ACTION: Notification of public hearings.

SUMMARY: We, NMFS, will hold two public hearings related to our proposed rule to apply protective regulations to the oceanic whitetip shark (Carcharhinus longimanus) under the Endangered Species Act (ESA).

DATES: Public hearings on the proposed protective regulations for the oceanic whitetip shark will be held on the following dates in the evening hours of the affected jurisdictions (Hawai 'i, Guam, the Commonwealth of the Northern Mariana Islands (CNMI), and American Samoa). Times are given in Chamorro Standard Time (ChST), Samoa Standard Time (SST), and Hawai'i Standard Time (HST). Addresses for the venue of the in-person hearing and instructions for joining the virtual hearing are provided under ADDRESSES below.

• An in-person public hearing is scheduled for Tuesday, August 20, 2024, at the King Kamehameha Kona Beach Resort, Kailua-Kona, Hawai'i. Doors will open at 5:30 p.m. HST, the informational meeting will begin at 6 p.m. HST, and the public hearing will begin at 7 p.m. HST.

• One virtual hearing is scheduled for the following time and date:

○ Samoa Standard Time Zone: the informational meeting will begin on Wednesday, August 21, 2024, at 7 p.m. SST, and the public hearing will begin at 8 p.m. SST.

○ Hawai 'i Standard Time Zone: the informational meeting will begin on Wednesday, August 21, 2024, at 8 p.m. HST, and the public hearing will begin at 9 p.m. HST.

○ Chamorro Standard Time Zone: the informational meeting will begin on Thursday, August 22, 2024, at 4 p.m. ChST, and the public hearing will begin at 5 p.m. ChST.

Comments on the proposed rule (89 FR 41917, May 14, 2024) must be received by September 15, 2024. Comments received after this date may not be accepted.

ADDRESSES: The address for the venue of the in-person hearing and instructions for joining the virtual hearing are provided below.

• Hawai 'i Public Hearing: King Kamehameha Kona Beach Resort, Kailua-Kona, Hawai'i, 75-5660 Palani Road, Kailua-Kona, Hawai'i 96740.

• Virtual Hearing: This hearing will be conducted as a Webex meeting. You may join the Webex meeting using a web browser, the Webex desktop app (app installation required), a mobile app on a phone (app installation required), or audio-only using just a phone call, as specified below.

○ Join the webinar via this link: https://noaanmfs-meets.webex.com/noaanmfs-meets/j.php?MTID=m3850e903d036865917d076acd702d934.

○ Webinar number: 2830 072 6586 Webinar password: fTJBNncM788 (38526626 when dialing from a phone or video system).

○ Join by phone: +1-415-527-5035 Access code: 283 007 26586.

You may submit comments verbally or in writing at the public hearings, or in writing by any of the following methods:

• Electronic Submissions: Submit all electronic comments via the Federal e- Rulemaking Portal. Go to https://www.regulations.gov and enter NOAA- NMFS-2023-0117 in the Search box. Click the “Comment” icon, complete the required fields, and enter or attach your comments.

• Mail: Adrienne Lohe, Office of Protected Resources, NMFS, 1315 East-West Highway, Silver Spring, MD 20910.

Instructions: You must submit comments by one of the previously described methods to ensure that we receive, document, and consider them. Comments sent by any other method, to any other address or individual, or received after the end of the comment period, may not be considered. All comments received are a part of the public record and will generally be posted to https://www.regulations.gov without change. All Personal Identifying Information (for example, name, address, etc.) voluntarily submitted by the commenter may be publicly accessible. Do not submit confidential business information or otherwise sensitive or protected information.

NMFS will accept anonymous comments (enter “N/A” in the required fields if you wish to remain anonymous).

FOR FURTHER INFORMATION CONTACT: Adrienne Lohe, NMFS Office of Protected Resources, at Adrienne.Lohe@noaa.gov or 301-427-8442.

SUPPLEMENTARY INFORMATION:

Background

On May 14, 2024, we published a proposed rule to issue protective regulations under section 4(d) of the ESA for the threatened oceanic whitetip shark (Carcharhinus longimanus) (89 FR 41917). In that notification, we also announced a 60-day public comment period and the availability of a draft environmental assessment and an initial regulatory flexibility analysis.

On June 28, 2024, we received a request to extend the public comment period and hold public hearings for fishing communities in Hawai'i, the Territories of American Samoa and Guam, and the Commonwealth of the Northern Mariana Islands in order to better understand the potential impact of the proposed rule and for communities to provide comments on the proposed rule. On July 11, 2024, we published a Federal Register notification extending the comment period until September 15, 2024, and announcing that we would hold one or more public hearings on the proposed rule (89 FR 56847).

The proposed rule and other materials prepared in support of this action are available at: https://www.fisheries.noaa.gov/action/proposed-protective-regulations-oceanic-whitetip-shark.

Public Hearings

One public hearing will be conducted in-person and one hearing will be conducted online as a Webex meeting, as specified in ADDRESSES above. The hearings will begin with a brief presentation by NMFS that gives an overview of the proposed protective regulations for the oceanic whitetip shark under section 4(d) of the ESA. After the presentation but before public comments, there will be a question and answer session during which members of the public may ask NMFS staff clarifying questions about the proposed protective regulations. Following the question and answer session, members of the public will have the opportunity to provide oral comments on the record regarding the proposed protective regulations. Members of the public will also have the opportunity to submit written comments at the hearings. Written comments may also be submitted at any time during the relevant public comment period as described above (see DATES and ADDRESSES). All oral comments will be recorded, transcribed, and added to the public comment record for this proposed rule.

Authority: 16 U.S.C. 1531 et seq.

Dated: July 30, 2024.
Samuel D. Rauch, III,
Deputy Assistant Administrator for Regulatory Programs, National Marine Fisheries Service.

[FR Doc. 2024-17152 Filed 8-2-24; 8:45 am]

BILLING CODE 3510-22-P